DEPARTMENT OF THE INTERIOR

National Park Service

[NPS-WASO-NAGPRA-NPS0030518; PPWOCRADN0-PCU00RP14.R50000]

Notice of Inventory Completion: Virginia Living Museum, Newport News, VA

AGENCY: National Park Service, Interior.

ACTION: Notice.

SUMMARY: The Virginia Living Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Virginia Living Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Virginia Living Museum at the address in this notice by September 8, 2020.

ADDRESSES: Emily Hoffman, Collections Manager, Virginia Living Museum, 524 J Clyde Morris Blvd., Newport News, VA 23701, telephone (757) 595-1900 Ext. 238, email emily.hoffman@thevlm.org.

SUPPLEMENTARY INFORMATION: Notice is here given in accordance with the Native American Graves Protection and Repatriation Act (NAGPRA), 25 U.S.C. 3003, of the completion of an inventory of human remains under the control of the Virginia Living Museum, Newport News, VA. The human remains were removed from Harmon's Cave in Saltville, Smyth County, VA, and from the Great South Channel, off the coast of Virginia.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Virginia Living Museum professional staff in consultation with representatives of the Catawba Indian Nation (aka Catawba Tribe of South Carolina); Chickahominy Indian Tribe—Eastern Division; Delaware Nation, Oklahoma; Delaware Tribe of Indians; Eastern Band of Cherokee Indians; Eastern Shawnee Tribe of Oklahoma; Monacan Indian Nation; Nansemond Indian Nation (previously listed as Nansemond Indian Tribe); Pamunkey Indian Tribe; Rappahannock Tribe, Inc.; The Muscogee (Creek Nation); and the Upper Mattaponi Tribe (hereafter referred to as “The Tribes”).

History and Description of the Remains

In 1959, human remains representing, at minimum, two individuals were removed from Harmon's Cave, which is located behind the Madame Russel House in Saltville, Smyth County, VA. Saltville is a small town that lies mostly in Smyth County in southwestern Virginia, between the Holston River and the Tennessee and Virginia Railroad. The human remains were collected by a member of the public in 1959, and they were donated to the Virginia Living Museum in 1967. The human remains include the top portion of a skull measuring approximately 160mm x 130mm (front to back) and belonging to an individual of unknown age and sex, and the partial forehead, brow ridges, and part of nasal cavity of a skull measuring approximately 100mm x 97mm and possibly belonging to a juvenile of unknown sex. No known individuals were identified. No associated funerary objects are present.

We do not have any historical records for these human remains beyond our initial donation form. When these human remains were donated, they were reported to be Native American.

On June 6, 1994, human remains representing, at minimum, one individual were removed from the Great South Channel, off the coast of Virginia. The human remains were collected by a member of the public in 1994, and they were donated to the Virginia Living Museum shortly thereafter. The human remains include the partial back and top of a skull measuring approximately 155mm (front to back) x 125mm (side to side) and belonging to an individual of unknown age and sex. No known individual was identified. No associated funerary objects are present.

We do not have any historical records for these human remains beyond our initial donation form. When these human remains were donated, they were reported to be Native American.

Determinations Made by the Virginia Living Museum

Officials of the Virginia Living Museum have determined that:

• Pursuant to 25 U.S.C. 3001(9), the human remains described in this notice represent the physical remains of three individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Emily Hoffman, Collections Manager, Virginia Living Museum, 524 J Clyde Morris Blvd., Newport News, VA 23701, telephone (757) 595-1900 Ext. 238, email emily.hoffman@thevlm.org, by September 8, 2020. After that date, if no additional requestors have come forward, transfer of control of the human remains to The Tribes may proceed.

The Virginia Living Museum is responsible for notifying The Tribes that this notice has been published.

Dated: June 25, 2020.
Melanie O'Brien,
Manager, National NAGPRA Program.

[FR Doc. 2020-17173 Filed 8-5-20; 8:45 am]

BILLING CODE 4312-52-P